DEPARTMENT OF HEALTH AND HUMAN SERVICES

Administration for Children and Families

Proposed Information Collection Activity; Administration for Native Americans Annual Data Report (ADR) (OMB #0970-0475)

AGENCY: Administration for Native Americans, Administration for Children and Families, HHS.

ACTION: Request for public comment.

SUMMARY: The Administration for Children and Families' (ACF) Administration for Native Americans (ANA) is requesting a 2-year extension to the following information collection: Annual Data Report (ADR) (OMB #0970-0475; expiration date: 2/28/2022). There are no changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: ANA collects the information in the ADR on an annual basis to monitor the performance of grantees and better gauge grantee progress. The majority of grantees submit this information through the On-going Progress Report (OMB #0970-0452), but there is a subset of about 80 grantees who still use the ADR and will continue to use the ADR through the end of their grants.

The ADR information collection is conducted in accordance with sec. 811 [42 U.S.C. 2992] of the Native American Programs Act and will allow ANA to report quantifiable results across all program areas. It also provides grantees with parameters for reporting their progress and helps ANA better monitor and determine the effectiveness of their projects.

Respondents: Tribal Government, Native non-profit organizations, and Tribal Colleges and Universities receiving ANA funding.

Annual Burden Estimates
Instrument | Total number of respondents | Annual number of responses per respondent | Average burden hours per response | Annual burden hours
ANA ADR | 80 | 1 | 1 | 80

Estimated Total Annual Burden Hours: 80.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 2992.

Mary B. Jones,
ACF/OPRE Certifying Officer.

[FR Doc. 2021-26912 Filed 12-10-21; 8:45 am]

BILLING CODE 4184-34-P